DEPARTMENT OF JUSTICE

Membership of the Senior Executive Service Standing Performance Review Boards

AGENCY: Department of Justice.

ACTION: Notice of Department of Justice's standing members of the Senior Executive Service Performance Review Boards.

SUMMARY: Pursuant to the requirements of 5 U.S.C. 4314(c)(4), the Department of Justice announces the membership of its 2007 Senior Executive Service (SES) Standing Performance Review Boards (PRBs). The purpose of a PRB is to provide fair and impartial review of SES performance appraisals, bonus recommendations and pay adjustments. The PRBs will make recommendations regarding the final performance ratings to be assigned, SES bonuses and/or pay adjustments to be awarded.

FOR FURTHER INFORMATION CONTACT: Rod Markham, Deputy Director, Personnel Staff, Justice Management Division, Department of Justice, Washington, DC 20530; (202) 514-4350.

Lee J. Lofthus,
Assistant Attorney General for Administration.

Office of the Attorney General—AG

FRIEDRICH, MATTHEW, COUNSEL TO THE ATTORNEY GENERAL

Office of the Deputy Attorney General—DAG

MARGOLIS, DAVID, ASSOCIATE DEPUTY ATTORNEY GENERAL

MOSCHELLA, WILLIAM E., PRINCIPAL ASSOCIATE DEPUTY ATTORNEY GENERAL

MONHEIM, THOMAS A., ASSOCIATE DEPUTY ATTORNEY GENERAL

HORVATH, JANE, CHIEF PRIVACY AND CIVIL LIBERTIES OFFICER

Office of the Associate Attorney General—OASG

BATTAGLIA, JOHN T., DEPUTY ASSOCIATE ATTORNEY GENERAL

KATSAS, GREGORY G., PRINCIPAL DEPUTY ASSISTANT ATTORNEY GENERAL

O'QUINN, JOHN C., DEPUTY ASSOCIATE ATTORNEY GENERAL

Antitrust Division—ATR

HAMMOND, SCOTT D., DEPUTY ASSISTANT ATTORNEY GENERAL/ CRIMINAL ENFORCEMENT

BOTTI, MARK J., CHIEF LITIGATION I SECTION

O'SULLIVAN, CATHERINE G., CHIEF, APPELLATE SECTION

HAND, EDWARD T., CHIEF, FOREIGN COMMERCE SECTION

KRAMER II, J. ROBERT, DIRECTOR OF OPERATIONS

WATSON, SCOTT M., CHIEF, CLEVELAND FIELD OFFICE

PRICE JR., MARVIN N., CHIEF, CHICAGO FIELD OFFICE

WARREN, PHILLIP H., CHIEF SAN FRANCISCO FIELD OFFICE

CONNOLLY, ROBERT E., CHIEF, PHILADELPHIA FIELD OFFICE

DAVIS, NEZIDA S., CHIEF, ATLANTA FIELD OFFICE

GIORDANO, RALPH T., CHIEF, NEW YORK FIELD OFFICE

POTTER, ROBERT A., CHIEF, LEGAL POLICY SECTION

FAMILANT, NORMAN, CHIEF, ECONOMIC LITIGATION SECTION

HEYER, KENNETH, DIRECTOR OF ECONOMICS

PETRIZZI, MARIBETH, CHIEF, LITIGATION II SECTION

KING, THOMAS D., EXECUTIVE OFFICER

GOODMAN, NANCY M., CHIEF, TELECOMMUNICATIONS AND MEDIA SECTION

PHELAN, LISA M., CHIEF, NATIONAL CRIMINAL ENFORCEMENT SECTION

KURSH, GAIL, DEPUTY DIRECTOR, LEGAL POLICY

READ, JOHN R., CHIEF, LITIGATION III SECTION

MAJURE, WILLIAM R., CHIEF COMPETITION POLICY SECTION

MASOUDI, GERALD F., DEPUTY ASSISTANT ATTORNEY GENERAL

GARZA, DEBORAH A., DEPUTY ASSISTANT ATTORNEY GENERAL (REGULATORY)

MEYER, DAVID L., DEPUTY ASSISTANT ATTORNEY GENERAL

Bureau of Alcohol, Tobacco, Firearms, and Explosives—ATF

BOUCHARD, MICHAEL R., SENIOR ADVISOR TO THE DIRECTOR

CARROLL, CARSON W., DEPUTY ASSISTANT DIRECTOR (FIELD OPERATIONS) CENTRAL

RADEN, LEWIS P., ASSISTANT DIRECTOR (ENFORCEMENT PROGRAM AND SERVICES)

STUCKO, AUDREY, DEPUTY ASSISTANT DIRECTOR (ENFORCEMENT PROGRAM AND SERVICES)

STOOP, THERESA R., DEPUTY ASSISTANT DIRECTOR (TRAINING AND PROFESSIONAL DEVELOPMENT)

LOGAN, MARK, ASSISTANT DIRECTOR (TRAINING AND PROFESSIONAL DEVELOPMENT)

CHASE, RICHARD E., ASSISTANT DIRECTOR (OI) (OPRSO) OFFICE OF PROFESSIONAL RESPONSIBILITY AND SECURITY OPERATIONS

MICHALIC, VIVIAN B., DEPUTY ASSISTANT DIRECTOR, OFFICE OF MANAGEMENT

STINNETT, MELANIE S., ASSISTANT DIRECTOR (OFFICE OF MANAGEMENT)

BELL, WILLIAM L., DEPUTY ASSISTANT DIRECTOR (SCIENCE & TECHNOLOGY)

BAILEY, GREGG D., ASSISTANT DIRECTOR (SCIENCE AND TECHNOLOGY)/CHIEF INFORMATION OFFICER

ETHRIDGE, MICHAEL W., DIRECTOR (LAB SERVICES)

FICARETTA, TERESA G., DEPUTY CHIEF COUNSEL

LOOS, ELEANER R., ASSOCIATE CHIEF COUNSEL (ADMIN/ETHICS)

O'BRIEN, VIRGINIA T., DEPUTY ASSISTANT DIRECTOR (FIELD OPS) EAST

TORRES, JOHN A., DIVISION DIRECTOR/SPECIAL AGENT IN CHARGE, LOS ANGELES

MCMAHON JR., WILLIAM G., DIVISION DIRECTOR/SPECIAL-AGENT-IN-CHARGE, NEW YORK

DOMENECH, EDGAR A., SPECIAL AGENT IN CHARGE, WASHINGTON FIELD DIVISION DIRECTOR

WEBB, JAMES D., SPECIAL AGENT IN CHARGE, HOUSTON FIELD DIVISION

RUBENSTEIN, STEPHEN R., CHIEF COUNSEL

MASSEY, KENNETH, DEPUTY ASSISTANT DIRECTOR (OPRSO)

ZAMMILLO SR., JAMES A., DEPUTY ASSISTANT DIRECTOR (INDUSTRY OP)

CAVANAUGH, JAMES M., DIVISION DIRECTOR/SPECIAL AGENT IN CHARGE, NASHVILLE FIELD DIVISION

CARTER, RONNIE A., DEPUTY DIRECTOR

FORD, WILFRED L., ASSISTANT DIRECTOR (PUBLIC AND GOVERNMENTAL AFFAIRS)

BARRERA, HUGO J., DEPUTY ASSISTANT DIRECTOR (OFFICE OF STRATEGIC INTELLIGENCE AND INFORMATION)

MCDERMOND, JAMES E., ASSISTANT DIRECTOR, OFFICE OF STRATEGIC INTELLIGENCE AND INFORMATION

CHAIT, MARK, R., DEPUTY ASSISTANT DIRECTOR (PUBLIC AND GOVENMENTAL AFFAIRS)

MCLEMORE, VANESSA L., SAC, ATLANTA FIELD DIVISION

ANDERSON, GLENN N., BOSTON, FIELD DIVISION

TRAVER, ANDREW L., SAC, CHICAGO FIELD DIVISION

BOXLER, MICHAEL B., SAC, KANSAS CITY FIELD DIVISION

POTTER, MARK W., SAC, PHILADELPHIA FIELD DIVISION

NEWELL, WILLIAM D., SAC, PHOENIX FIELD DIVISION

MARTIN, STEPHEN K., SAC, SAN FRANCISCO FIELD DIVISION

TORRES, JULIE, SAC, MIAMI FL FIELD DIVISION

GRAHAM, ZEBEDEE T., SAC, CHARLOTTE FIELD DIVISION

GODDARD, VALERIE J., SAC, DETROIT FIELD DIVISION

VIDO, PAUL J., SAC, LOUISVILLE FIELD DIVISION

CRENSHAW, KELVIN N., SAC, SEATTLE FIELD DIVISION

OSTROWSKI, RALPH C., SAC, TAMPA FIELD DIVISION

ZAPOR, BERNARD J., SAC, ST PAUL, MN

HARPER, DAVID G., SPECIAL AGENT IN CHARGE NEW ORLEANS, LA

SADOWSKI, CHRISTOPHER P., SPECIAL AGENT IN CHARGE, COLUMBUS, OH

GANT, GREGORY K., SPECIAL AGENT IN CHARGE, BALTIMORE, MD

HOOVER, WILLIAM J., ASSISTANT DIRECTOR (FIELD OPERATIONS)

Bureau of Prisons—BOP

LAPPIN, HARLEY G., DIRECTOR

SASSER, BRUCE KENT, ASSISTANT DIRECTOR FOR ADMINISTRATION

CONLEY, JOYCE K., ASSISTANT DIRECTOR CORRECTIONAL PROGRAMS DIVISION

KENNEY, KATHLEEN M., ASSISTANT DIRECTOR OFFICE OF GENERAL COUNSEL

DODRILL, D. SCOTT, REGIONAL DIRECTOR, NORTHEAST REGION

HOLT, RAYMOND E., REGIONAL DIRECTOR, SOUTHEAST REGION

NALLEY, MICHAEL K., REGIONAL DIRECTOR, NORTH CENTRAL REGION

MCFADDEN, ROBERT E., REGIONAL DIRECTOR, WESTERN REGION

MALDONADO JR, GERARDO, REGIONAL DIRECTOR, SOUTH CENTRAL REGION

GRAYER, LOREN A., WARDEN, USP, ATLANTA, GA

TERRELL, DUDLEY J., WARDEN, USP LEAVENWORTH, KS

WILLIAMSON, TROY W., WARDEN, USP LEWISBURG, PA

SANDERS, LINDA L., WARDEN, FCC LOMPOC, CA

GUNJA, JOSEPH E., WARDEN, MCFP SPRINGFIELD, MO

DEWALT, STEPHEN M, WARDEN, FMC LEXINGTON, KY

BLEDSOE, BRYAN A., WARDEN, USP, MARION, IL

LAIRD, PAUL A., ASSISTANT DIRECTOR, INDUSTRIES, EDUCATION AND VOCATIONAL TRAINING DIVISION

VEACH, RICKIE V, WARDEN, USP TERRE HAUTE, IN

BEELER JR, ARTHUR F., WARDEN, FCC BUTNER (FMC), NC

MIDDLEBROOKS, SCOTT A., WARDEN, FCI MARIANNA, FL

LE BLANC JR, WHITNEY I., ASSISTANT DIRECTOR FOR HUMAN RESOURCES MANAGEMENT

APKER JR, LIONEL C., WARDEN, FCI, PHOENIX, AZ

ANDERSON, MARTY C., WARDEN, FMC, ROCHESTER, MINNESOTA

WHITE, KIM M., REGIONAL DIRECTOR, MIDDLE ATLANTIC REGION

KANE, THOMAS R., ASSISTANT DIRECTOR, INFORMATION, POLICY, AND PUBLIC AFFAIRS DIVISION

DREW, DARRYL, WARDEN TALLADEGA, AL

SAMUELS, CHARLES E. JR., WARDEN, FCI, FORT DIX, NJ

REVELL, SARA M., WARDEN, USP FLORENCE (HIGH), CO

WILEY, RONNIE, WARDEN, USP FLORENCE (ADMAX), CO

YOUNG JR, JOSEPH P., WARDEN, FCC, OAKDALE, LOUISIANA

VAN BUREN, VIRGINIA L., WARDEN, FMC, CARSWELL, TX

MINER, JONATHAN C., WARDEN, FCC ALLENWOOD, PA

KEFFER, JOSEPH E., WARDEN, FTC, OKLAHOMA CITY, OK

DALIUS JR, WILLIAM F., SENIOR DEPUTY ASSISTANT DIRECTOR, ADMINISTRATION DIVISION

SCHULTZ, PAUL M., WARDEN, FCI FAIRTON, NJ

ADAMS, VANESSA P., SENIOR DEPUTY ASSISTANT DIRECTOR PROGRAM REVIEW DIVISION

LAMANNA, JOHN J., WARDEN, FCI, EDGEFIELD, SC

BENOV, MICHAEL L., SENIOR WARDEN MDC, LOS ANGELES, CA

FOX, JOHN B., WARDEN, USP, BEAUMONT, TEXAS

HASTINGS, SUZANNE R., ASSISTANT DIRECTOR, HEALTH SERVICES DIVISION

BEUSSE, ROBIN LITMAN, SENIOR DEPUTY ASSISTANT DIRECTOR FOR ADMINISTRATION

LINDSAY, CAMERON K., WARDEN, MDC, BROOKLYN, NY

MENIFEE, FREDRICK, WARDEN, USP POLLUCK, LA

SMITH, DENNIS, R., WARDEN, USP ATWATER, CA

GARRETT, MICHAEL W., WARDEN, USP COLEMAN, FL

O'BRIEN, TERENCE T., WARDEN, USP LEE, VA

KENDALL, PAUL F., SENIOR COUNSEL/LEGAL ADMINISTRATIVE

STANSBERRY, PATRICIA R., WARDEN, FCC, PETERSBURG, VA

RIOS JR., HECTOR A., WARDEN, USP BIG SANDY, KY

NORWOOD, JOSEPH L., WARDEN, FCC VICTORVILLE, CA

STINE, DONALD L., WARDEN, USP MCCREARY, KY

DRIVER, JOE D., WARDEN, USP HAZELTON, WV

REESE, CONSTANCE N., WARDEN, FCC YAZOO CITY MS

HOLT, RONNIE R., WARDEN, USP CANAAN, WAYMART, PA

OUTLAW, TIMOTHY C, WARDEN, FCI FORREST CITY, AR

JOHNS, TRACY W., WARDEN, FCC BUTNER, NC

HOLDER, CARLYLE I., WARDEN, FCC COLEMAN, FL

CHAVEZ, RICARDO E., WARDEN, USP TUCSON, AZ

HOLLINGSWORTH, LISA, WARDEN, FCI CUMBERLAND, MD

RIVERA, MILDRED, WARDEN, FCI ESTILL, SC

MARBERRY, HELEN J., WARDEN, FCI MCKEAN, PA

MARTINEZ, RICARDO, WARDEN, FCI OXFORD, WI

ZUERCHER, JEROME C., WARDEN, FCI PEKIN, IL

JOSLIN, DANIEL M., WARDEN, THREE RIVERS, TX

LEDEZMA, HECTOR, WARDEN, MDC GUAYNABO, PUERTO RICO

PEARSON, BRUCE, WARDEN, FCI MEMPHIS TN

DANIELS, CHARLES, WARDEN, FCI SHERIDAN, OR

FRANCIS, JOYCE, WARDEN, FCI GILMER, WV

GRONDOLSKY, JEFF, WARDEN, FCI MANCHESTER, KY

PETTIFORD, MICHAEL L., WARDEN, FCI BENNETTSVILLE, SC

SCIBANA, JOSEPH M, WARDEN FCI ELRENO, OK

THIGPEN SR, MORRIS L., DIRECTOR NATIONAL INSTITUTE OF CORRECTIONS

Civil Division—CIV

HERTZ, MICHAEL F., DEPUTY ASSISTANT ATTORNEY GENERAL

COPPOLINO, ANTHONY J., SPECIAL LITIGATION COUNSEL (FEDERAL PROGRAMS)

RIVERA, JENNIFER D., BRANCH DIRECTOR (FEDERAL PROGRAMS)

KOPP, ROBERT E., DIRECTOR, APPELLATE STAFF

DAVIDSON, JEANNE E, BRANCH DIRECTOR (NATIONAL COURTS)—COMMERCIAL LITIGATION BRANCH

HUNT, JOSEPH H., BRANCH DIRECTOR (FEDERAL PROGRAMS)

BRANDA, JOYCE R, BRANCH DIRECTOR (COMMERCIAL)

KOHN, J. CHRISTOPHER, BRANCH DIRECTOR (COMMERCIAL)

PYLES, PHYLLIS J., BRANCH DIRECTOR (TORTS)

FARGO, JOHN J., BRANCH DIRECTOR (COMMERCIAL)

GARREN, TIMOTHY PATRICK, BRANCH DIRECTOR (TORTS)

FROST, PETER F., BRANCH DIRECTOR (TORTS)

BAXTER, FELIX V., BRANCH DIRECTOR (FEDERAL PROGRAM)

HOLLIS, ROBERT MARK, OFFICE DIRECTOR (SPECIAL LITIGATION COUNSEL)

O'MALLEY, BARBARA B., SPECIAL LITIGATION COUNSEL

BRUEN JR, JAMES G., SPECIAL LITIGATION COUNSEL

HUSSEY, THOMAS W., DIRECTOR, OFFICE OF IMMIGRATION

GLYNN, JOHN PATRICK, BRANCH DIRECTOR (TORTS)

KIRSCHMAN JR., ROBERT E, DEPUTY BRANCH DIRECTOR (COMMERCIAL)

GARVEY, VINCENT MORGAN, DEPUTY BRANCH DIRECTOR (FEDERAL PROGRAMS)

ZWICK, KENNETH L., DIRECTOR OF MANAGEMENT PROGRAMS

BORDEAUX, JOANN J., DEPUTY BRANCH DIRECTOR (TORTS)

BRANDA, JOYCE R., DEPUTY BRANCH DIRECTOR (COMMERCIAL)

LIEBER, SHEILA M., DEPUTY BRANCH DIRECTOR

THIROLF, EUGENE M., DIRECTOR, OFFICE OF CONSUMER LITIGATION

LETTER, DOUGLAS N., APPELLATE LITIGATION COUNSEL

STERN, MARK B., APPELLATE LITIGATION COUNSEL

KANTER, WILLIAM G., DEPUTY DIRECTOR (APPELLATE STAFF)

SNEE, BRYANT G., DEPUTY DIRECTOR (COMMERCIAL)

KLINE, DAVID J., DEPUTY BRANCH DIRECTOR (OIL)

MCCONNELL, DAVID M, DEPUTY DIRECTOR (OPERATIONS), OFFICE OF IMMIGRATION LITIGATION

BECKNER, C. FREDERICK, DEPUTY ASSISTANT ATTORNEY GENERAL

COHN, JONATHAN F., DEPUTY ASSISTANT ATTORNEY GENERAL

NICHOLS, CARL J., DEPUTY ASSISTANT ATTORNEY GENERAL

BUCHOLTZ, JEFFREY S., PRINCIPAL DEPUTY ASSISTANT ATTORNEY GENERAL

DUPREE JR., THOMAS, DEPUTY ASSISTANT ATTORNEY GENERAL

Civil Rights Division—CRT

KING, LORETTA, DEPUTY ASSISTANT ATTORNEY GENERAL

PALMER, DAVID J., CHIEF, EMPLOYMENT LITIGATION SECTION

FLYNN, DAVID K., CHIEF, APPELLATE SECTION

KAPPLEHOFF, MARK JOHN, CHIEF, CRIMINAL SECTION

ROSENBAUM, STEVEN H., CHIEF, HOUSING AND CIVIL ENFORCEMENT

TANNER, JOHN K, CHIEF, VOTING SECTION

GLASSMAN, JEREMIAH, CHIEF, EDUCATIONAL OPPORTUNITIES

BROWN CUTLAR, HANETTA, CHIEF, SPECIAL LITIGATION SECTION

FRIEDLANDER, MERRILY A., CHIEF, COORDINATION & REVIEW SECTION

GREENE, IRVA D., EXECUTIVE OFFICER

WODATCH, JOHN L., CHIEF, DISABILITY RIGHTS SECTION

BALDWIN, KATHERINE A., DEPUTY SPECIAL COUNSEL

GINSBURG, JESSICA A, COUNSEL TO THE ASSISTANT ATTORNEY GENERAL

BECKER, GRACE CHUNG, DEPUTY ASSISTANT ATTORNEY GENERAL

AGARWAL, ASHEESH, DEPUTY ASSISTANT ATTORNEY GENERAL

COMISAC, RENA JOHNSON, PRINCIPAL DEPUTY ASSISTANT ATTORNEY GENERAL

Criminal Division—CRM

ROGERS, RICHARD M., SENIOR COUNSEL TO THE ASSISTANT ATTORNEY GENERAL

NASH, STUART G., DIRECTOR, ORGANIZED CRIME, DRUG ENFORCEMENT TASK FORCE (OCDETF)

OHR, BRUCE G., CHIEF, ORGANIZED CRIME & RACKETEERING SECTION

STEMLER, PATTY MERKAMP, CHIEF, APPELLATE SECTION

WELCH II, WILLIAM M., CHIEF, PUBLIC INTEGRITY SECTION

BLANCO, KENNETH A., CHIEF, NARCOTIC & DANGEROUS DRUG SECTION

KEENEY, JOHN C., DEPUTY ASSISTANT ATTORNEY GENERAL

SWARTZ, BRUCE CARLTON, DEPUTY ASSISTANT ATTORNEY GENERAL

WARLOW, MARY ELLEN, DIRECTOR, OFFICE OF INTERNATIONAL AFFAIRS

PELLETIER, PAUL E, DEPUTY CHIEF FOR LITIGATION, FRAUD SECTION

WEBER, RICHARD M., CHIEF, ASSET FORFEITURE AND MONEY LAUNDERING SECTION

MORRIS, BRENDA K, PRINCIPAL DEPUTY CHIEF, PUBLIC INTEGRITY SECTION

SABIN, BARRY M., DEPUTY ASSISTANT ATTORNEY GENERAL

GLAZER, SIDNEY, SENIOR APPELLATE COUNSEL

KILLION, MAUREEN H., DIRECTOR, OFFICE OF ENFORCEMENT OPERATIONS

ROBINSON, STEWART C, DEPUTY DIRECTOR, OFFICE OF INTERNATIONAL AFFAIRS

WARREN, MARY LEE, DEPUTY ASSISTANT ATTORNEY GENERAL

AINSWORTH, PETER J., SENIOR DEPUTY CHIEF, PUBLIC INTEGRITY SECTION

OOSTERBAAN, ANDREW, CHIEF, CHILD EXPLOITATION AND OBSCENITY SECTION

ROSENBAUM, ELI M., DIRECTOR, OFFICE OF SPECIAL INVESTIGATIONS

PAINTER, CHRISTOPHER M., DEPUTY CHIEF, COMPUTER CRIME AND INTELLECTUAL PROPERTY SECTION

REYNOLDS, JAMES S., SENIOR COUNSEL TO THE ASSISTANT ATTORNEY GENERAL

PADDEN, THOMAS WILLIAM, PRINCIPAL DEPUTY, CHIEF OF OPERATIONS, NARCOTIC AND DANGEROUS DRUG SECTION

ALEXANDRE, CARL, DIRECTOR, OPDAT

STANSELL GAMM, MARTHA J., CHIEF, COMPUTER CRIME, & INTELLECTUAL PROPERTY SECTION

MCHENRY, TERESA L., CHIEF, DOMESTIC SECURITY SECTION

TYRRELL, STEVEN A, CHIEF, FRAUD SECTION

MANDELKER, SIGAL P., DEPUTY ASSISTANT ATTORNEY GENERAL

MCNALLY, EDWARD E., SENIOR COUNSEL TO ASSISTANT ATTORNEY GENERAL

Environmental and Natural Resources Division—ENRD

CRUDEN, JOHN C., DEPUTY ASSISTANT ATTORNEY GENERAL

RANDALL, GARY B, DEPUTY SECTION CHIEF, NATURAL RESOURCES SECTION

HAUGRUD, K. JACK, CHIEF, GENERAL LITIGATION SECTION

BUTLER, VIRGINIA P., CHIEF, LAND ACQUISITION SECTION

KILBOURNE, JAMES C., CHIEF, APPELLATE SECTION

ALEXANDER, S. CRAIG, CHIEF, INDIAN RESOURCES SECTION

GRISHAW, LETITIA J., CHIEF, ENVIRONMENTAL DEFENSE SECTION

DISHEROON, FRED R., SPECIAL LITIGATION COUNSEL

MILIUS, PAULINE H., CHIEF, LAW AND POLICY SECTION

WILLIAMS, JEAN E., CHIEF, WILDLIFE & MARINE RESOURCES

FISHEROW, W. BENJAMIN, DEPUTY CHIEF ENVIRONMENT ENFORCEMENT

UHLMANN, DAVID M., CHIEF, ENVIRONMENTAL CRIMES SEC

GELBER, BRUCE S., CHIEF, ENVIRONMENTAL ENFORCEMENT

STEWART, HOWARD P., SENIOR LITIGATION COUNSEL

SOBECK, EILEEN, DEPUTY ASSISTANT ATTORNEY GENERAL

BRUFFY, ROBERT L., EXECUTIVE OFFICER

MAHAN, ELLEN M., DEPUTY CHIEF, ENVIRONMENTAL ENFORCEMENT SECTION

CLARK II, TOM C., PRINCIPAL DEPUTY CHIEF NATURAL RESOURCES SECTION

VADEN, CHRISTOPHER S., DEPUTY CHIEF, ENVIRONMENTAL DEFENSE SECTION

NELSON, RYAN D, DEPUTY ASSISTANT ATTORNEY GENERAL

Executive Office for Immigration Review—EOIR

KELLER, MARY E., GENERAL COUNSEL

NASCA, PAULA N., ASSOCIATE DIRECTOR

PERKINS, JACK, DIRECTOR OF OPERATIONS, BOARD OF IMMIGRATION APPEALS

CREPPY, MICHAEL J., CHIEF ADMINISTRATIVE HEARING OFFICER

OHLSON, KEVIN A., DEPUTY DIRECTOR

Executive Office for U.S. Attorneys—EOUSA

DOWNS, DAVID W., DEPUTY DIRECTOR FOR OPERATIONS

BAILIE, MICHAEL W., DIRECTOR, OFFICE OF LEG EDUCATION

BEVELS, LISA A., DEPUTY DIRECTOR FINANCIAL MGMT

PARENT, STEVEN J., DEPUTY DIRECTOR

MELSON, KENNETH E., DIRECTOR

NOWACKI, JOHN A., SENIOR COUNSEL

Executive Office for U.S. Trustees—EOUST

WHITE III, CLIFFORD J., DIRECTOR

MILLER, JEFFREY M., ASSOCIATE DIRECTOR

Justice Management Division—JMD

ALLEN, MICHAEL H., DEPUTY ASSISTANT ATTORNEY GENERAL FOR POLICY, MANAGEMENT, AND PLANNING, CHIEF OF STAFF

PAGLIARINI, RAYMOND JR., DIRECTOR, PERSONNEL STAFF

DUNLAP, JAMES L., DIRECTOR, SECURITY AND EMERGENCY PLANNING STAFF

MORGAN, MELINDA B., DIRECTOR, FINANCE STAFF

LAURIA-SULLENS, JOLENE A., DEPUTY ASSISTANT ATTORNEY GENERAL/CONTROLLER

SANTANGELO, MARI BARR, DEPUTY ASSISTANT ATTORNEY GENERAL FOR HUMAN RESOURCES AND ADMINISTRATION (CHCO)

DESSY, BLANE K., DIRECTOR, LIBRARY STAFF

DEACON, RONALD L., DIRECTOR, FACILITY ADMINISTRATION SERVICES STAFF

DE FALAISE, LOUIS, DIRECTOR, OFFICE OF ATTORNEY RECRUITMENT AND MANAGEMENT

DUFFY, MICHAEL D., DEPUTY, CHIEF INFORMATION OFFICER FOR E-GOVERNMENT SERVICES STAFF

MURRAY, JOHN W., DIRECTOR, ENTERPRISE SOLUTIONS STAFF

HERETICK, DENNIS J., DIRECTOR, INFORMATION SECURITY STAFF

BEASLEY, ROGER, DIRECTOR, OPERATION SERVICES STAFF

HOLTGREWE, KENT L., DIRECTOR, IT POLICY AND PLANNING STAFF

ORR, DAVID MARSHALL, DIRECTOR, MANAGEMENT AND PLANNING STAFF

O'LEARY, KARIN, DIRECTOR, BUDGET STAFF

HAGGERTY, KATHLEEN A., DIRECTOR, DEBT COLLECTION MANAGEMENT STAFF

HITCH, VANCE E., DEPUTY ASSISTANT ATTORNEY GENERAL/CHIEF INFORMATION OFFICER

JOHNSTON, JAMES W., DIRECTOR, PROCUREMENT SERVICES STAFF

FRISCH, STUART, GENERAL COUNSEL

FROST-TUCKER, VONTELL D., DIRECTOR, EQUAL EMPLOYMENT OPPORTUNITY STAFF

SCHULTZ JR, WALTER H., DEPUTY DIRECTOR, BUDGET STAFF, OPERATIONS AND FUNDS CONTROL

ALVAREZ, CHRISTOPHER C., DEPUTY DIRECTOR (AUDITING), FINANCE STAFF

MARKHAM, RODNEY E, DEPUTY DIRECTOR, PERSONNEL STAFF

National Security Division—NSD

BAKER, JAMES A., COUNSEL FOR INTELLIGENCE POLICY/CHIEF, FISA OPERATIONS

BRADLEY, MARK A., DEPUTY COUNSEL FOR INTELLIGENCE POLICY

KENNEDY, JOHN LIONEL, DEPUTY COUNSEL FOR INTELLIGENCE LAW

DION, JOHN J., CHIEF, COUNTERESPIONAGE SECTION

EDELMAN, RONNIE L., DEPUTY CHIEF, COUNTERTERRORISM SECTION

WALTER, SHERYL L, EXECUTIVE OFFICER

MULLANEY, MICHAEL J., CHIEF, COUNTERTERRORISM SECTION

OLSEN, MATTHEW G., DEPUTY ASSISTANT ATTORNEY GENERAL FISA OPERATIONS AND INTELLIGENCE OVERSIGHT

SKELLY NOLEN, MARGARET, DEPUTY COUNSEL FOR INTELLIGENCE OPERATIONS

ROWAN, J. PATRICK, DEPUTY ASSISTANT ATTORNEY GENERAL, COUNTERTERRORISM/COUNTER ESPIONAGE

Office of Community Oriented Policing Services—COPS

PEED, CARL R., DIRECTOR

Office of Information and Privacy—OIP

PUSTAY, MELANIE ANN, DIRECTOR (POLICY & LIT)

Office of Inspector General—OIG

PRICE, PAUL A., ASSISTANT INSPECTOR GENERAL EVALUATION AND INSPECTION

MCLAUGHLIN, THOMAS F., ASSISTANT INSPECTOR GENERAL FOR INVESTIGATION

PETERS, GREGORY T., ASSISTANT INSPECTOR GENERAL FOR MANAGEMENT & PLANNING

MARTIN, PAUL K., DEPUTY INSPECTOR GENERAL

ROBINSON, GAIL A., GENERAL COUNSEL

FORTINE OCHOA, CAROL A., ASSISTANT INSPECTOR GENERAL FOR OVERSIGHT & REVIEW

Office of Justice Programs—OJP

GARRY, EILEEN M., DEPUTY DIRECTOR FOR PROGRAMS, BUREAU OF JUSTICE ASSISTANCE

IWANOW, WALTER, CHIEF INFORMATION OFFICER

FEUCHT, THOMAS E., ASSISTANT DIRECTOR, NATIONAL INSTITUTE OF JUSTICE, OFFICE FOR RESEARCH AND EVALUATION

MERKLE, PHILLIP, DIRECTOR, OFFICE OF ADMINISTRATION

MADAN, RAFAEL A., GENERAL COUNSEL

PAULL, MARCIA K., CHIEF FINANCIAL OFFICER

BURCH II, JAMES H., DEPUTY DIRECTOR, POLICY AND MANAGEMENT, BUREAU OF JUSTICE PROGRAMS

ROBERTS, MARILYN M., DEPUTY ADMINISTRATOR, OJJDP

AYERS, NANCY LYNN, DIRECTOR, OFFICE OF COMMUNICATIONS

GREENHOUSE, DENNIS E., DIRECTOR, COMMUNITY CAPACITY DEVELOPMENT OFFICE

MORGAN, JOHN S., ASSSISTANT DIRECTOR, NATIONAL INSTITUTE OF JUSTICE, OFFICE OF SCIENCE AND TECHNOLOGY

GREENFELD, LAWRENCE, DEPUTY DIRECTOR FOR PLANNING, BUREAU OF JUSTICE ASSISTANCE

MCGARRY, BETH, DEPUTY ASSISTANT ATTORNEY GENERAL, OPERATIONS MANAGEMENT

BENDA, BONNIE LEIGH, DEPUTY, CHIEF FINANCIAL OFFICER

DALEY, CYBELE K., DEPUTY ASSISTANT ATTORNEY GENERAL

MCFARLAND, STEVEN T., DIRECTOR, OFFICE OF FAITH BASED AND COMMUNITY INITIATIVES

HAGY, DAVID W., DEPUTY ASSISTANT ATTORNEY GENERAL

HARRIS, GREGORY PAUL, DEPUTY ADMINISTRATOR, OJJDP

ROGERS, LAURA, SMART COORDINATOR

Office of Legal Counsel—OLC

KOFFSKY, DANIEL L., SPECIAL COUNSEL

HART, ROSEMARY A., SPECIAL COUNSEL

COLBORN, PAUL P., SPECIAL COUNSEL

EISENBERG, JOHN A., DEPUTY ASSISTANT ATTORNEY GENERAL

ELWOOD, JOHN PATRICK, DEPUTY ASSISTANT ATTORNEY GENERAL

PAPEZ, ELIZABETH, DEPUTY ASSISTANT ATTORNEY GENERAL

BRADBURY, STEVEN G., PRINCIPAL DEPUTY ASSISTANT ATTORNEY GENERAL

ENGEL, STEVEN A, DEPUTY ASSISTANT ATTORNEY GENERAL

Office of Legal Policy—OLP

JONES, KEVIN ROBERT, DEPUTY ASSISTANT ATTORNEY GENERAL

GERRY, BRETT, PRINCIPAL DEPUTY ASSISTANT ATTORNEY GENERAL

COOK, ELISEBETH C, DEPUTY ASSISTANT ATTORNEY GENERAL

BOUNDS, RYAN, DEPUTY ASSISTANT ATTORNEY GENERAL & CHIEF OF STAFF

Office of Legislative Affairs—OLA

BURTON, M. FAITH, SPECIAL COUNSEL

SEIDEL, REBECCA S., DEPUTY ASSISTANT ATTORNEY GENERAL

BENCZKOWSKI, BRIAN A, PRINCIPAL DEPUTY ASSISTANT ATTORNEY GENERAL

TRACCI, ROBERT N., DEPUTY ASSISTANT ATTORNEY GENERAL

Office of Professional Responsibility—OPR

JARRETT, HOWARD MARSHALL

COUNSEL ON PROFESSIONAL RESPONSIBILITY

WISH, JUDITH B., DEPUTY COUNSEL ON PROF RESPONSIBILITY

Office of Public Affairs—PAO

SCOLINOS, TASIA M., DIRECTOR

Office of the Federal Detention Trustee—OFDT

HYLTON, STACIA A., FEDERAL DETENTION TRUSTEE

Office of the Pardon Attorney—OPA

ADAMS, ROGER C., PARDON ATTORNEY

Office of the Solicitor General—OSG

HUNGAR, THOMAS G., DEPUTY SOLICITOR GENERAL

DREEBEN, MICHAEL R., DEPUTY SOLICITOR GENERAL

KNEEDLER, EDWIN S., DEPUTY SOLICITOR GENERAL

GARRE, GREGORY G., PRINCIPAL DEPUTY SOLICITOR GENERAL

Tax Division—TAX

SALAD, BRUCE M., CHIEF, CRIMINAL ENFORCEMENT SECTION, SOUTHERN REGION

PAGUNI, ROSEMARY E., CHIEF, CRIMINAL ENFORCEMENT SECTION, NORTHERN REGION

ROTHENBERG, GILBERT S. CHIEF, APPELLATE SECTION

GUSTAFSON, DAVID, CHIEF, CLAIMS COURT SECTION

HEALD, SETH G., CHIEF, CIVIL TRIAL SECTION, CENTRAL REGION

MULLARKEY, DANIEL P., CHIEF, CIVIL TRIAL SECTION, NORTHERN REGION

KEARNS, MICHAEL J., CHIEF, CIVIL TRIAL SECTION, SOUTHERN REGION

WARD, RICHARD, CHIEF, CIVIL TRIAL SECTION WESTERN REGION

CSONTOS, STEPHEN J., SPECIAL LITIGATION COUNSEL

DONOHUE, DENNIS M., SENIOR LITIGATION COUNSEL

DICICCO, JOHN, DEPUTY ASSISTANT ATTORNEY GENERAL

CIMINO, RONALD ALLEN, CHIEF, CRIMINAL ENFORCEMENT SECTION, WESTERN REGION

MELAND, DEBORAH, CHIEF, OFFICE OF REVIEW

HYTKEN, LOUISE P., CHIEF, CIVIL TRIAL SECTION, SW REGION

HUBBERT, DAVID A., CHIEF, CIVIL TRIAL SECTION, EASTERN REGION

YOUNG, JOSEPH E., EXECUTIVE OFFICER

HECHTKOPF, ALAN, CHIEF, CRIMINAL APPEALS AND TAX ENFORCEMENT POLICY SECTION

MORRISON, RICHARD T., DEPUTY ASSISTANT ATTORNEY GENERAL

U.S. Marshals Service—USMS

FARMER, MARC A., ASSISTANT DIRECTOR FOR OPERATIONS SUPPORT

SMITH, SUZANNE D., ASSISTANT DIRECTOR OF HUMAN RESOURCES

DOLAN, EDWARD, COMPTROLLER

JONES, SYLVESTER E., WITNESS SECURITY AND PRISONER OPERATIONS

PEARSON, MICHAEL A., ASSISTANT DIRECTOR FOR BUSINESS SERVICES

BROWN, BROADINE M., ASSISTANT DIRECTOR FOR MANAGEMENT & BUDGET

RODERICK, JR, ARTHUR D., ASSISTANT DIRECTOR FOR INVESTIGATIVE SERVICE

FINAN II, ROBERT J., ASSISTANT DIRECTOR FOR JUDICIAL SECURITY

BECKWITH, BRIAN, R., ASSISTANT DIRECTOR FOR TRAINING

AUERBACH, GERALD, GENERAL COUNSEL

ROLSTAD, SCOTT C, ASSISTANT DIRECTOR FOR JPATS

LITMAN, DIANE C., ASSISTANT DIRECTOR FOR INFORMATION TECHNOLOGY

[FR Doc. E7-16664 Filed 8-22-07; 8:45 am]

BILLING CODE 4410-AR-P